DEPARTMENT OF HEALTH AND HUMAN SERVICES

National Institutes of Health

Clinical Center; Notice of Closed Meeting

Pursuant to section 1009 of the Federal Advisory Committee Act, as amended, notice is hereby given of a meeting of the Board of Scientific Counselors of the NIH Clinical Center.

The meeting will be closed to the public as indicated below in accordance with the provisions set forth in section 552b(c)(9)(B), Title 5 U.S.C., as amended for the review, discussion, and evaluation of individual grant applications conducted by the Clinical Center, including consideration of personnel qualifications and performance, and the competence of individual investigators, the disclosure of which would constitute a clearly unwarranted invasion of personal privacy.

Name of Committee: Board of Scientific Counselors of the NIH Clinical Center.

Date: June 9, 2025.

Time: 10:00 a.m. to 4:00 p.m.

Agenda: TBHD Presentations, Interviews, and other business of the board.

Meeting Format: Virtual Meeting.

Address: Clinical Center, 10 Center Drive, Bethesda, MD 20892.

Date: June 10, 2025.

Time: 10:00 a.m. to 12:30 p.m.

Agenda: Executive Session.

Address: Clinical Center, 10 Center Drive, Bethesda, MD 20892, Virtual Meeting.

Contact Person: Ronald Neumann, MD, Deputy Scientific Director, Clinical Center, National Institutes of Health, 10 Center Drive, Bethesda, MD 20892, 301-496-6455, rneumann@cc.nih.gov.

Dated: April 15, 2025.
Bruce A. George,
Program Analyst, Office of Federal Advisory Committee Policy.

[FR Doc. 2025-06754 Filed 4-18-25; 8:45 am]

BILLING CODE 4140-01-P